DEPARTMENT OF AGRICULTURE

Forest Service

Klamath Provincial Advisory Committee (PAC)

AGENCY: Forest Service, USDA.

ACTION: Notice of meeting.

SUMMARY: The Klamath Provincial Advisory Committee will meet on October 11, 2000, at the Northern California Service Center, Training Room 1, 6101 Airport Road, Redding, California. The meeting will start at 9 A.M. and adjourn at 5 P.M. Agenda items for the meeting include: (1) Discussion on topics of general interest to the PAC (Implementation Monitoring Field Trips); (2) the President's Fire and Fuels Report; (3) Socio-Economic Issues: and (4) Public Comment Periods. All Provincial Advisory Committee meetings are open to the public. Interested citizens are encouraged to attend.

FOR FURTHER INFORMATION CONTACT: Connie Hendryx, USDA, Klamath National Forest, 11263 N. Hwy 3, Fort Jones, California 96032; telephone 530-468-1281 (voice), TDD 530-468-2783.

Dated: September 27, 2000.
Constance J. Hendryx,
PAC Support Staff.

[FR Doc. 00-25385 Filed 10-3-00; 8:45 am]

BILLING CODE 3410-11-M